DEPARTMENT OF TRANSPORTATION

Federal Aviation Administration

14 CFR Part 39

[Docket No. FAA-2011-0318; Directorate Identifier 2010-CE-033-AD; Amendment 39-16966; AD 2012-04-10]

RIN 2120-AA64

Airworthiness Directives; Burl A. Rogers (Type Certificate Previously Held by William Brad Mitchell and Aeronca, Inc.) Airplanes

AGENCY: Federal Aviation Administration (FAA), DOT.

ACTION: Final rule.

SUMMARY: We are adopting a new airworthiness directive (AD) for all Burl A. Rogers (type certificate previously held by William Brad Mitchell and Aeronca, Inc.) Models 15AC and S15AC airplanes. This AD was prompted by reports of intergranular exfoliation and corrosion of the upper and/or lower wing main spar cap angles found on the affected airplanes. This AD requires repetitive inspections of the upper and lower main wing spar cap angles for cracks and/or corrosion and installing inspection access panels. This AD also requires replacing the wing spar cap angles if moderate or severe corrosion is found and applying corrosion inhibitor. We are issuing this AD to correct the unsafe condition on these products.

DATES: This AD is effective April 17, 2012.

The Director of the Federal Register approved the incorporation by reference of certain publications listed in the AD as of April 17, 2012.

ADDRESSES: For service information identified in this AD, contact Burl's Aircraft, LLC, P.O. Box 671487, Chugiak, Alaska 99567-1487; phone: (907) 688-3715; fax (907) 688-5031; email burl@biginalaska.com; Internet: http://www.burlac.com. You may review copies of the referenced service information at the FAA, Small Airplane Directorate, 901 Locust, Room 301, Kansas City, MO 64106. For information on the availability of this material at the FAA, call (816) 329-4148.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: August Asay, Supervisory Aerospace Engineer, FAA, Anchorage Aircraft Certification Office, 222 W. 7th Ave., #14, Anchorage, Alaska 99513; telephone: (907) 271-2668; fax: (907) 271-6365; email: august.asay@faa.gov.

SUPPLEMENTARY INFORMATION:

Discussion

We issued a notice of proposed rulemaking (NPRM) to amend 14 CFR part 39 to include an AD that would apply to the specified products. That NPRM published in the Federal Register on April 4, 2011 (76 FR 18454). That NPRM proposed to require repetitive inspections of the upper and lower main wing spar cap angles for cracks and/or corrosion and installing inspection access panels. That NPRM also proposed to require replacing the wing spar cap angles if moderate or severe corrosion is found and applying corrosion inhibitor.

Comments

We gave the public the opportunity to participate in developing this AD. The following presents the comments received on the proposal (76 FR 18454, April 4, 2011) and the FAA's response to each comment.

Request To Extend Comment Period

The Experimental Aircraft Association (EAA), John Poulter, Andrew Cooper Crow, Eric Sandberg, Rodney David Pollard, Kyle W. Boatright, and 10 other commenters requested an extension of the comment period.

The commenters stated that additional time was needed to receive all of the data requested through the Freedom of Information Act and to prepare a request for an alternative method of compliance (AMOC).

We do not agree to extend the comment period again. We issued the proposed AD (76 FR 18454, April 4, 2011) with a 45-day open comment period. Due to several public comments received at that time requesting an extension of the comment period to facilitate fact finding/information gathering, we issued an extension of the comment period (76 FR 23920, April 29, 2011) that extended the comment period for an additional 45 days. Even though we did not extend the comment period any further, we have accepted all comments to the docket that were received after the comment close date.

We have determined it is in the best interest of the public to go forward with this AD to address the unsafe condition on these airplanes. The public may always propose AMOCs to show compliance to the requirements cited in the AD. We will review and consider all AMOC requests we receive provided they follow the procedures in 14 CFR 39.19 and this AD.

We made no change to the AD based on this comment.

Request To Use Different Inspection Method

John Poulter, Kyle W. Boatright, Douglas T. Rounds, Frank Charles, Gerald Wayne Cox, John Landers, Ron Craig Cooper, and four other commenters requested approval to use the borescope inspection method.

The commenters stated that using a borescope when inspecting the main spar cap angles on the wings for corrosion would save time and the expense of installing access covers in the wings.

We agree that a borescope inspection could provide an acceptable level of safety for doing the required inspection; however, we disagree with approving it for this AD because we do not have written detailed guidance for doing a borescope inspection that we can refer to in this AD at this time.

The public may always propose AMOCs to show compliance to the requirements cited in the AD. We will review and consider all AMOC requests we receive provided they follow the procedures in 14 CFR 39.19 and this AD.

We made no change to the AD based on this comment.

Request To Change the Costs of Compliance Section

An anonymous commenter stated that the Costs of Compliance section should be re-evaluated.

The commenter stated that the estimated cost information in the proposed AD (76 FR 18454, April 4, 2011) is misleading since some of the information is presented per wing instead of per airplane. The commenter also stated that the estimated cost of replacing the main spar cap on both wings could exceed the value of the airplane, and the estimated cost to inspect and install inspection panels could easily amount to 10 to 25 percent of the value of the airplane.

The commenter stated that there are less costly, yet as effective, options to comply with the AD, and we should include those costs in the AD.

We do not agree with the commenter. We determined that the estimated costs stated in the proposed AD (76 FR 18454, April 4, 2011) represent the most accurate estimate we can make at this time. Total fleet repair costs were not calculated because we have no way of determining the number of wings that will be found to be corroded and/or cracked that will need to be replaced.

The public may always propose AMOCs to show compliance to the requirements cited in the AD. The FAA will review and consider all AMOC requests we receive provided they follow the procedures in 14 CFR 39.19 and this AD.

We made no change to the AD based on this comment.

Request To Incorporate Revised Service Information

Burl's Aircraft, LLC issued additional installation instructions for installing the 2-1272 reinforcement doubler and the 2-1285 inspection cover assemblies. We infer that Burl's Aircraft, LLC wants the FAA to include the installation instructions into the final rule AD action.

We agree. We have revised the final rule AD action to incorporate using the installation instructions.

Conclusion

We reviewed the relevant data, considered the comments received, and determined that air safety and the public interest require adopting the AD with the change described previously and minor editorial changes. We have determined that these minor changes:

• Are consistent with the intent that was proposed in the NPRM (76 FR 18454, April 4, 2011) for correcting the unsafe condition; and

• Do not add any additional burden upon the public than was already proposed in the NPRM (76 FR 18454, April 4, 2011).

We also determined that these changes will not increase the economic burden on any operator or increase the scope of the AD.

Costs of Compliance

We estimate that this AD will affect 255 airplanes in the U.S. registry.

We estimate the following costs to comply with this AD:

Estimated Costs
Action | Labor cost | Parts cost | Cost per product | Cost on U.S. operators
Initial inspection | 10 work-hours × $85 per hour = $850 | Not applicable | $850 | $216,750
Installation of inspection access panels and inspection | 30 work-hours × $85 per hour = $2,550 | $630 | 3,180 | 810,900

We estimate the following costs to do any necessary replacements that will be required based on the results of the inspections. We have no way of determining the number of aircraft that might need these replacements:

On-Condition Costs
Action | Labor cost | Parts cost | Cost per product per wing
Replacement of main spar cap | 80 work-hours × $85 per hour = $6,800 per wing | $1,200 per wing | $8,000

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-04-10 Burl A. Rogers (Type Certificate Previously Held by William Brad Mitchell and Aeronca, Inc.) Models 15AC and S15AC Airplanes: Amendment 39-16966; Docket No. FAA-2011-0318; Directorate Identifier 2010-CE-033-AD.

(a) Effective Date

This AD is effective April 17, 2012.

(b) Affected ADs

None.

(c) Applicability

This AD applies to Burl A. Rogers (type certificate previously held by William Brad Mitchell and Aeronca, Inc.) Model 15AC and S15AC airplanes, all serial numbers, that are certificated in any category.

(d) Subject

Joint Aircraft System Component (JASC)/Air Transport Association (ATA) of America Code 57, Wings.

(e) Unsafe Condition

This AD was prompted by reports of intergranular exfoliation and corrosion of the upper and/or lower wing main spar cap angles found on the affected airplanes. We are issuing this AD to detect and correct cracks and corrosion in the wing main spar cap angles, which could result in reduced strength of the wing spar and the load carrying capacity of the wing. This could lead to wing failure and consequent loss of control.

(f) Actions, Compliance, and Procedures

Comply with this AD within the compliance times specified, unless already done (does not eliminate the repetitive actions of this AD).

What must be done? | When must it be done? | How must it be done?
(1) Inspect the exposed trailing edges of both the upper and lower main spar cap angles on both the left and right wing for signs of cracks, intergranular exfoliation, and corrosion | (i) Within the next 25 hours time-in-service (TIS) after April 17, 2012 (the effective date of this AD) or within the next 6 months after April 17, 2012 (the effective date of this AD), whichever occurs first; or (ii) If the left and/or right wing have been repaired and both the upper and lower main spar caps have been replaced using new parts: Inspect at or before the next annual inspection that occurs 10 years after the replacement or within the next 100 hours TIS after April 17, 2012 (the effective date of this AD), whichever occurs later. This compliance time applies separately to each wing | Follow Burl's Aircraft, LLC Mandatory Service Bulletin No. 15AC06-08-10, dated June 8, 2010; Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011; and FAA Advisory Circular (AC) 43.13-1B, Change 1, Chapter 6. AC 43.13-1B can be found at http://rgl.faa.gov/.
(2) After completing the inspection required in paragraph (f)(1) of this AD, install new inspection hole skin reinforcement doublers and the associated screw cover plate in both the left and right wing | (i) Within 12 months after April 17, 2012 (the effective date of this AD); or (ii) If the left and/or right wing have been repaired and both the upper and lower main spar caps have been replaced using new parts: At or before the next annual inspection that occurs 10 years after the replacement or within the next 100 hours TIS after April 17, 2012 (the effective date of this AD), whichever occurs later. This compliance time applies separately to each wing | Follow Burl's Aircraft, LLC Mandatory Service Bulletin No. 15AC06-08-10, dated June 8, 2010, which includes Burl's Aircraft, LLC Drawing No. SB 15AC06-08-10 (not dated); Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011, which references Burl's Aircraft, LLC Installation Instruction No. SB 15AC06-08-10, dated September 9, 2011, Burl's Aircraft, LLC Sketch No. SB 15AC06-08-10, dated September 9, 2011, and Burl's Aircraft, LLC Drawing No. 2-1272 Splice, dated September 6, 2011; and FAA Advisory Circular (AC) 43.13-1B, Change 1, Chapter 6. AC 43.13-1B can be found at http://rgl.faa.gov/.
(3) After completing the inspection required in paragraph (f)(1) of this AD and installing the new inspection hole skin reinforcement doublers in the left and right wing as required in paragraph (f)(2) of this AD, through the inspection access panels, inspect the leading and trailing edges of both the upper and lower main spar cap angles on both the left and right wing for signs of cracks, intergranular exfoliation and corrosion | Before further flight after installing the inspection hole skin reinforcement doublers as required in paragraph (f)(2) of this AD | Follow Burl's Aircraft, LLC Mandatory Service Bulletin No. 15AC06-08-10, dated June 8, 2010; Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011.
(4) Remove any light corrosion found during the inspection required in paragraph (f)(3) of this AD and treat the entirety of both the upper and lower main spar cap angles on both the left and right wing with corrosion inhibitor | Before further flight after the inspection required in paragraph (f)(3) of this AD | Follow Burl's Aircraft, LLC Mandatory Service Bulletin No. 15AC06-08-10, dated June 8, 2010; Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011.
(5) If cracks, intergranular exfoliation, or moderate or severe corrosion is found during the inspection required in paragraphs (f)(1) or (f)(3) of this AD, replace the affected main spar cap angles in their entirety as a single piece. Splicing of the main spar cap angles is not permitted | Before further flight after the inspection required in paragraphs (f)(1) and (f)(3) of this AD | Follow Burl's Aircraft, LLC Mandatory Service Bulletin No. 15AC06-08-10, dated June 8, 2010; Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011; and contact Burl's Aircraft, LLC in paragraph (i) of this AD for a replacement scheme and incorporate the replacement scheme.
(6) Removing the wing inspection access panels, repetitively inspect both the upper and lower forward main spar caps on both the left and right wing for signs of cracks, intergranular exfoliation, and corrosion | Repetitively thereafter at intervals not to exceed every 12 months after the inspection required in paragraph (f)(3) of this AD | Follow Burl's Aircraft, LLC Mandatory Service Bulletin No. 15AC06-08-10, dated June 8, 2010; Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011; and FAA Advisory Circular (AC) 43.13-1B, Change 1, Chapter 6. AC 43.13-1B can be found at http://rgl.faa.gov/.
(7) After each inspection required in paragraph (f)(6) of this AD, if only light corrosion is found, remove the corrosion and treat the main spar cap angles with corrosion inhibitor | Before further flight after each inspection required in paragraph (f)(6) of this AD. Continue with the repetitive inspections required in paragraph (f)(6) of this AD | Follow Burl's Aircraft, LLC Mandatory Service Bulletin No. 15AC06-08-10, dated June 8, 2010; Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011; and FAA Advisory Circular (AC) 43.13-1B, Change 1, Chapter 6. AC 43.13-1B can be found at http://rgl.faa.gov/. Contact Burl's Aircraft, LLC in paragraph (i) of this AD for a replacement scheme and incorporate the replacement scheme.
(8) After each inspection required in paragraph (f)(6) of this AD, if cracks, intergranular exfoliation, or moderate or severe corrosion is found, replace the affected main spar cap angles in their entirety as a single piece. Splicing of the main spar cap angles is not permitted | Before further flight after each inspection required in paragraph (f)(6) of this AD. Continue with the repetitive inspections required in paragraph (f)(6) of this AD | Follow Burl's Aircraft, LLC Mandatory Service Bulletin No. 15AC06-08-10, dated June 8, 2010; Burl's Aircraft, LLC Mandatory Service Bulletin No. 15AC06-08-10, Amendment A, dated June 23, 2010; or Burl's Aircraft, LLC Mandatory Service Bulletin No. 15AC06-08-10, Amendment B, dated June 23, 2010, Rev. Original, September 15, 2011; and FAA Advisory Circular (AC) 43.13-1B, Change 1, Chapter 6. AC 43.13-1B can be found at http://rgl.faa.gov/. Contact Burl's Aircraft, LLC in paragraph (i) of this AD for a replacement scheme and incorporate the replacement scheme.
(9) Only install main spar cap angles that have been inspected and are free of cracks, intergranular exfoliation, or moderate or severe corrosion | As of April 17, 2012 (the effective date of this AD) | Not applicable.

(g) Alternative Methods of Compliance (AMOCs)

(1) The Manager, Anchorage Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(h) Related Information

For more information about this AD, contact August Asay, Supervisory Aerospace Engineer, FAA, Anchorage ACO, 222 W. 7th Ave., #14, Anchorage, Alaska 99513; telephone: (907) 271-2668; fax: (907) 271-6365; email: august.asay@faa.gov.

(i) Material Incorporated by Reference

(1) You must use the following service information to do the actions required by this AD, unless the AD specifies otherwise. The Director of the Federal Register approved the incorporation by reference (IBR) under 5 U.S.C. 552(a) and 1 CFR part 51.

(i) Burl's Aircraft, LLC Mandatory Service Bulletin No. 15AC06-08-10, dated June 8, 2010;

(ii) Burl's Aircraft, LLC Mandatory Service Bulletin No. 15AC06-08-10, Amendment A, dated June 23, 2010;

(iii) Burl's Aircraft, LLC Mandatory Service Bulletin No. 15AC06-08-10, Amendment B, dated June 23, 2010, Rev. Original, September 15, 2011;

(iv) Burl's Aircraft, LLC Installation Instruction No. SB 15AC06-08-10, dated September 9, 2011;

(v) Burl's Aircraft, LLC Drawing No. SB 15AC06-08-10 (not dated);

(vi) Burl's Aircraft, LLC Sketch No. SB 15AC06-08-10, dated September 9, 2011; and

(vii) Burl's Aircraft, LLC Drawing No. 2-1272 Splice, dated September 6, 2011; and

(2) For service information identified in this AD, contact Burl's Aircraft, LLC, P.O. Box 671487, Chugiak, Alaska 99567-1487; telephone: (907) 688-3715; fax (907) 688-5031; email burl@biginalaska.com; Internet: http://www.burlac.com.

(3) You may review copies of the service information at the FAA, Small Airplane Directorate, 901 Locust, Room 301, Kansas City, MO 64106. For information on the availability of this material at the FAA, call (816) 329-4148.

(4) You may also review copies of the service information that is incorporated by reference at the National Archives and Records Administration (NARA). For information on the availability of this material at NARA, call 202-741-6030, or go to: http://www.archives.gov/federal-register/cfr/ibr-locations.html.

Issued in Kansas City, Missouri, on February 21, 2012.
Earl Lawrence,
Manager, Small Airplane Directorate, Aircraft Certification Service.

[FR Doc. 2012-5864 Filed 3-12-12; 8:45 am]

BILLING CODE 4910-13-P